DEPARTMENT OF ENERGY

Federal Energy Regulatory Commission

[Project No. P-15331-001]

Marlow Hydro LLC; Notice Soliciting Scoping Comments

Take notice that the following hydroelectric application has been filed with the Commission and is available for public inspection.

a. Type of Application: Original Minor License.

b. Project No.: P-15331-001.

c. Date filed: July 31, 2024.

d. Applicant: Marlow Hydro, LLC (Marlow Hydro).

e. Name of Project: Nash Mill Dam Hydroelectric Project.

f. Location: On the Ashuelot River, in town of Marlow, Cheshire County, New Hampshire.

g. Filed Pursuant to: Federal Power Act 16 U.S.C. 791(a)-825(r).

h. Applicant Contact: Anthony B. Rosario, Marlow Hydro, 139 Henniker St., Hillsborough, NH 03244; Phone at (603) 494-1854; or email at t-iem@tds.net.

i. FERC Contact: Prabha Madduri at 202-502-8017, or prabharanjani.madduri@ferc.gov.

j. Deadline for filing scoping comments: April 17, 2025.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). Submissions sent via the U.S. Postal Service must be addressed to: Debbie Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. The first page of any filing should include the project name and docket number on the first page: Nash Mill Dam Hydroelectric Project (P-15331-001).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The proposed Nash Mill Project consists of the following existing facilities: (1) a 57-foot-long, 9-foot-high, concrete gravity dam topped with 3-foot-high collapsible wooden flashboards with a crest elevation of 1,133.41 feet North American Vertical Datum 1988 (NAVD 88) at the top of the flashboards; (2) a 2-acre impoundment; (3) an intake structure on the north side of the dam equipped with a 10-foot-high by 10-foot-wide trash rack with 1-inch clear bar spacing; (4) a 4-foot-diameter, 1,525-foot-long, round steel penstock that trifurcates into two 2-foot-diameter penstocks and one 4-foot-diameter pipe; (5) a 31-foot-long by 18-foot-wide powerhouse that contains two vertical-shaft, fixed propeller turbine-generator units and one horizontal-shaft turbine-generator unit for a total installed capacity of 225 kilowatts; (6) a 600-foot-long tailrace; (7) a 1,800-foot-long bypassed reach; (8) a 0.48 kilovolt (kV), 75 kilo-volt-ampere transformer; (9) a 1,830-foot-long, 12.5-kV transmission line; and (10) appurtenant facilities.

Marlow Hydro currently operates the project in a run-of-river mode. The current license requires Marlow Hydro to release a continuous minimum flow of 23 cubic feet per second (cfs) from the project as measured downstream of the powerhouse, with a continuous flow of 5.2 cfs over the dam. From 2016 to 2020, average annual generation of the Nash Mill Project was 552 megawatt-hours.

Marlow Hydro proposes to continue operating the project in a run-of-river mode and would increase the bypass flow from 5.2 cfs to 14.5 cfs.

m. A copy of the application can be viewed on the Commission's website at http://www.ferc.gov using the “eLibrary” link. Enter the docket number excluding the last three digits in the docket number field to address the document. For assistance, contact FERC Online Support. A copy is available for inspection and reproduction at the address in Item H above.

You may also register online at https://ferconline.ferc.gov/FERCOnline.aspx to be notified via email of new filings and issuances related to this or other pending projects. For assistance, contact FERC Online Support.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

o. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued March 18, 2025. Copies of the SD1 outlining the subject areas to be addressed in the NEPA document were distributed to the parties on the Commission's mailing list and the applicant's distribution list. Copies of the SD1 may be viewed on the web at http://www.ferc.gov using the “eLibrary” link. Enter the docket number excluding the last three digits in the docket number field to access the document (see item m above).

Dated: March 18, 2025.
Carlos D. Clay,
Deputy Secretary.

[FR Doc. 2025-04966 Filed 3-24-25; 8:45 am]

BILLING CODE 6717-01-P